DEPARTMENT OF ENERGY

Federal Energy Regulatory Commission

[Docket No. IC20-2-000]

Commission Information Collection Activities (FERC-577); Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC- 577 (Natural Gas Facilities: Environmental Review and Compliance) and submitting the information collection to the Office of Management and Budget (OMB) for review. Any interested person may file comments directly with OMB and should address a copy of those comments to the Commission as explained below.

DATES: Comments on the collection of information are due February 13, 2020.

ADDRESSES: Comments filed with OMB, identified by the OMB Control No. 1902-0128, should be sent via email to the Office of Information and Regulatory Affairs: oira_submission@omb.gov, Attention: Federal Energy Regulatory Commission Desk Officer.

A copy of the comments should also be sent to the Commission, in Docket No. IC20-2-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-577, Natural Gas Facilities: Environmental Review and Compliance.

OMB Control No.: 1902-0128.

Type of Request: Three-year extension of the FERC-577 with no changes to the current reporting requirements.

Abstract: The FERC-577 contains the Commission's information collection pertaining to regulations which implement the National Environmental Policy Act (NEPA) as well as the reporting requirements for landowner notifications. These requirements are contained in 18 CFR parts 2, 157, 284, and 380. The information to be submitted includes draft environmental material in accordance with the provisions of Part 380 of FERC's regulations in order to implement the Commission's procedures under NEPA.

Without such information, the Commission would be unable to fulfill its statutory responsibilities under the Natural Gas Act (NGA), NEPA, and the Energy Policy Act of 2005. Specifically, these responsibilities include ensuring company activities remain consistent with the public interest, which is specified in the NGA and inherent in the other statutes.

Type of Respondents: Companies proposing Natural Gas Projects under section 7 and Jurisdictional Gas Pipeline and Storage Companies.

Estimate of Annual Burden.¹ The Commission estimates the annual public reporting burden and cost ² for the information collection as follows.

FERC-577—Natural Gas Facilities: Environmental Review and Compliance
| Number of respondents | Number of responses per respondent | Total number of responses | Average burden hours & average cost per response ($) (rounded) | Total annual burden hours & total annual cost ($) (rounded) | Cost per respondent ($) (rounded)
| (1) | (2) | (1) * (2) = (3) | (4) | (3) * (4) = (5) | (5) ÷ (1) = (6)
Gas Pipeline Certificates ³ | 101 | 16 | 1,616 | 193,518 hours; $15,481 | 312,725 hours; $25,018,007 | $247,703
Landowners Notification ⁴ | 164 | 144 | 23,616 | 2 hours; $160 | 47,232 hours; $3,778,560 | 23,040
Total |  |  | 25,232 |  | 359,957 hours; $28,796,567 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹ Burden is defined as the total time, effort, or financial resources expended by persons to generate, maintain, retain, or disclose or provide information to or for a federal agency. See 5 CFR 1320 for additional information on the definition of information collection burden.

² The Commission staff estimates that industry is similarly situated in terms of hourly cost (for wages plus benefits). Based on the Commission's FY (Fiscal Year) 2019 average cost (for wages plus benefits), $80.00/hour is used.

³ Requirements are found in 18 CFR parts 2, 157, and 380.

⁴ Requirements are found in 18 CFR 157(d), 157(f), 2.55(a), 2.55(b), 284.11, and 380.15.

Dated: January 8, 2020.
Kimberly D. Bose,
Secretary.

[FR Doc. 2020-00385 Filed 1-13-20; 8:45 am]

BILLING CODE 6717-01-P